NATIONAL INDIAN GAMING COMMISSION

Notice of Tribal Consultations; Schedule Update

AGENCY: National Indian Gaming Commission.

ACTION: Notice of tribal consultations; schedule update.

Authority: E.O. 13175.

SUMMARY: On November 18, 2010, the National Indian Gaming Commission (NIGC) published a Notice of Inquiry and Notice of Consultation, 75 FR 70680. The Commission announced to the public a comprehensive review of all its regulations, sought responses to many general and specific questions about its regulations, and announced a schedule of consultations. This notice adds two consultations to the schedule for January 2012. Should any further changes to the consultation schedule be necessary, the Commission will announce them in the Federal Register and on its Web site, www.nigc.gov.

DATES: See SUPPLEMENTARY INFORMATION below for the updated and revised dates, times, and locations of consultation meetings.

FOR FURTHER INFORMATION CONTACT: National Indian Gaming Commission, 1441 L Street NW., Suite 9100 Washington, DC 20005. Telephone: (202) 632-7003; email: reg.review@nigc.gov.

SUPPLEMENTARY INFORMATION: The Commission will hold two additional tribal consultations on the following dates, at the following times, and in the following locations:

Consultation Date | Event | Location | Regulation Group(s)
January 25, 2012 | NIGC Consultation—Southeast | Seminole Hard Rock Hotel, 1 Seminole Way, Hollywood, Florida | 1, 2, 4, 5
January 30, 2012 | NIGC Consultation—California | Agua Caliente, Casino/Conference Center, 100 North Indian Drive, Palm Springs, California | 1, 2, 4, 5

For additional information on consultation locations and times, please refer to the Web site of the National Indian Gaming Commission, http://www.nigc.gov. Please RSVP at consultation.rsvp@nigc.gov.

Dated: December 21, 2011.
Dawn M. Houle,
Deputy Chief of Staff.

[FR Doc. 2011-33190 Filed 12-27-11; 8:45 am]

BILLING CODE 7565-01-P